NATIONAL FOUNDATION ON THE ARTS AND THE HUMANITIES

Arts Advisory Panel Meeting

AGENCY: National Endowment for the Arts, National Foundation on the Arts and Humanities.

ACTION: Notice of Meeting.

SUMMARY: Pursuant to Section 10(a)(2) of the Federal Advisory Committee Act (Pub. L. 92-463), as amended, notice is hereby given that seven meetings of the Arts Advisory Panel to the National Council on the Arts will be held at the Nancy Hanks Center, 1100 Pennsylvania Avenue NW., Washington, DC 20506 (unless otherwise noted) as follows (ending times are approximate):

International (application review): By teleoconference. This meeting will be closed.

Dates: January 8, 2013; 1:00 p.m. to 2:00 p.m. e.s.t.

Folk & Traditional Arts (application review): In room 716. This meeting will be closed.

Dates: January 11, 2013; 9:00 a.m. to 5:30 p.m. e.s.t.

State & Regional (review of state partnership agreements): In Room 716. This meeting will be open.

Dates: January 16-17, 2013; From 9:00 a.m. to 5:00 p.m. e.s.t. on January 16th and from 9:00 a.m. to 3:30 p.m. e.s.t. on January 17th.

Music (review of nominations): 3 Columbus Circle, 12th Floor, New York, NY 10019 and by teleconference. This meeting will be closed.

Dates: January 15, 2013, from 9:00 a.m. to 10:15 a.m. e.s.t.

State & Regional (review of regional partnership agreements): By teleconference. This meeting will be open.

Dates: January 30, 2013; From 3:00 p.m. to 4:00 p.m. e.s.t.

Folk & Traditional Arts (review of nominations): In room 716. This meeting will be closed.

Dates: January 29-February 1, 2013; from 9:00 a.m. to 5:30 p.m. e.s.t. on January 29th-31st and from 9:00 a.m. to 1:00 p.m. e.s.t. on February 1st.

Research (application review): In Room 627. This meeting will be closed.

Dates: January 29-30, 2013; From 9:00 a.m. to 5:30 p.m. e.s.t. on January 29th and from 9:00 a.m. to 5:00 p.m. e.s.t. on January 30th.

FOR FURTHER INFORMATION CONTACT: Further information with reference to these meetings can be obtained from Ms. Kathy Plowitz-Worden, Office of Guidelines & Panel Operations, National Endowment for the Arts, Washington, DC 20506; plowitzk@arts.gov or call 202/682-5691.

SUPPLEMENTARY INFORMATION: The closed portions of meetings are for the purpose of Panel review, discussion, evaluation, and recommendations on financial assistance under the National Foundation on the Arts and the Humanities Act of 1965, as amended, including information given in confidence to the agency. In accordance with the determination of the Chairman of February 15, 2012, these sessions will be closed to the public pursuant to subsection (c)(6) of section 552b of Title 5, United States Code.

Dated: December 18, 2012.
Kathy Plowitz-Worden,
Panel Coordinator, National Endowment for the Arts.

[FR Doc. 2012-30759 Filed 12-20-12; 8:45 am]

BILLING CODE 7537-01-P